DEPARTMENT OF DEFENSE

Office of the Secretary

Termination of Federal Advisory Committee

AGENCY: DoD.

ACTION: Notice.

SUMMARY: Under the provisions of Executive Order 13426, the Federal Advisory Committee Act of 1972, (5 U.S.C. Appendix, as amended), the Sunshine in the Government Act of 1976 (5 U.S.C. 552b, as amended), and 41 CFR 102-3.55, the Department of Defense gives notice that it is terminating the President's Commission on Care for America's Returning Wounded Warriors on August 30, 2007.

The President's Commission on Care for America's Returning Wounded Warriors, pursuant to section 6, of Executive Order 13426, is terminated 30 days after it submits its report to the President through the Secretary of Defense and the Secretary of Veterans Affairs. The President's Commission on Care for America's Returning Wounded Warriors, which submitted its report to the President on July 30, 2007, was chartered to:

1. Examine the effectiveness of returning wounded service members' transition from deployment in support of the Global War on Terror to successful return to productive military service or civilian society, and recommend needed improvements;

2. Evaluate the coordination, management, and adequacy of the delivery of health care, disability, traumatic injury, education, employment, and other benefits and services to returning wounded Global War on Terror service members by Federal agencies as well as the private sector, and recommend ways to ensure that programs provide high-quality services;

3. (a) Analyze the effectiveness of existing outreach to service members regarding such benefits and services, and service members' level of awareness of an ability to access these benefits and services, (b) identify ways to reduce barriers to and gaps in the benefits and services; and

4. Consult with foundations, veterans service organizations, non-profit groups, faith-based organizations, and others as appropriate, in performing the Commission's functions.

The President's Commission on Care for America's Returning Wounded Warriors' final report, title “Serve, Support, Simplify”, contains the six recommendations and can be viewed at the Commission's Web site: http://www.pccww.gov/index.html.

Pursuant to 41 CFR 102-3.175(a), the Department of Defense, no later than July 30, 2008, shall submit a follow-up report on the recommendations made by the President's Commission on Care for America's Returning Wounded Warriors. This report will be submitted to the congressional oversight committees, the Committee Management Secretariat for the General Services Administration, and the Library of Congress.

FOR FURTHER INFORMATION CONTACT: Jim Freeman, DoD Committee Management Office, 703-601-2554, extension 128.

Dated: August 8, 2007.
L.M. Bynum,
Alternate OSD Federal Register Liaison Officer, Department of Defense.

[FR Doc. 07-3952 Filed 8-13-07; 8:45 am]

BILLING CODE 5001-06-M